DEPARTMENT OF DEFENSE

Office of the Secretary of Defense

[Docket ID DOD-2010-OS-0169]

Privacy Act of 1974; System of Records

AGENCY: Office of the Secretary, DoD.

ACTION: Notice to delete three systems of records.

SUMMARY: The Office of the Secretary of Defense is deleting three systems of records notices from its existing inventory of record systems subject to the Privacy Act of 1974, (5 U.S.C. 552a), as amended.

DATES: This proposed action will be effective without further notice on January 26, 2011 unless comments are received, which result in a contrary determination.

ADDRESSES: You may submit comments, identified by docket number and Regulatory Information Number (RIN) and title, by any of the following methods:

• Federal Rulemaking Portal: http://www.regulations.gov. Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Privacy Act Officer, Freedom of Information Directorate, Washington Headquarters Services, 1155 Defense Pentagon, Washington, DC 20301-1155, or Mrs. Cindy Allard at (703) 588-6830.

SUPPLEMENTARY INFORMATION: The Office of the Secretary of Defense systems of records notices subject to the Privacy Act of 1974, (5 U.S.C. 552a), as amended, have been published in the Federal Register and are available from the FOR FURTHER INFORMATION CONTACT address above.

The Office of the Secretary of Defense proposes to delete three systems of records notices from its inventory of record systems subject to the Privacy Act of 1974 (5 U.S.C. 552a), as amended. The proposed deletion is not within the purview of subsection (r) of the Privacy Act of 1974, (5 U.S.C. 552a), as amended, which requires the submission of a new or altered system report.

Dated: December 16, 2010.
Morgan F. Park,
Alternate OSD Federal Register Liaison Officer, Department of Defense.

Deletions:

DWHS P12

Executive Development Program and Training Files (February 22, 1993, 58 FR 10227).

Reason: The Executive Development Program and Training Files (DWHS P12) can be deleted. The records covered by this system are also covered by government-wide system notice OPM/GOVT-1, General Personnel Records.

DWHS B45

DoD Salary Offset Suspense Control Records (February 22, 1993, 58 FR 10227).

Reason: The collection of records covered by the DoD Salary Offset Suspense Control Records system of records is also covered by the Defense Finance and Accounting System T7330a, Salary Offset Reporting System (November 14, 2007, 72 FR 64055) system of records.

DWHS B46

DoD Creditor Agency Accounts Receivable System (February 22, 1993, 58 FR 10227).

Reason: The collection of records covered by the DoD Creditor Agency Accounts Receivable System system of records is also covered by the Defense Finance and Accounting System T7332, Defense Debt Management System (February 17, 2009, 74 FR 7665) system of records.

[FR Doc. 2010-32398 Filed 12-23-10; 8:45 am]

BILLING CODE 5001-06-P